DEPARTMENT OF TRANSPORTATION

Coast Guard

33 CFR Part 165

[COTP Western Alaska 00-002]

RIN 2115-AA97

Safety Zone; Port Graham, Cook Inlet, Alaska

AGENCY: Coast Guard, DOT.

ACTION: Temporary final rule; correction.

SUMMARY: This document corrects a temporary final rule published in the Federal Register of May 15, 2000, concerning temporary regulations at Port Graham, Cook Inlet, Alaska and the heavy-lift vessel SWAN. That document contained an arrival date that has been changed; thus a correction is necessary.

DATES: The temporary final rule published on May 15, 2000 is effective beginning on June 10, 2000.

FOR FURTHER INFORMATION CONTACT: Lieutenant Commander Rick Rodriguez, Chief of Port Operations, USCG Marine Safety Office, Anchorage, at (907) 271-6724.

SUPPLEMENTARY INFORMATION:

Correction

In temporary final rule FR Doc 00-12151, the effective date is no longer correct because the arrival date for the vessel has been changed to June 10, 2000 instead of June 12, 2000 and a correction is needed.

Correction of publication.

Accordingly, the publication on May 15, 2000, of the temporary final rule [COTP Western Alaska 00-002], which is the subject of FR Doc. 00-12151, is corrected as follows:

1. On page 30885, second column, in the DATES section, remove the words “June 12, 2000” and add in their place the words “ June 10, 2000”.

2. On page 30886, first column, in amendatory instruction number 2, remove the words “June 12, 2000” and add in their place the words “ June 10, 2000”.

3. On page 30886, second column, paragraph (b), remove the words “June 12, 2000” and add in their place the words “ June 10, 2000”.

Dated: June 6, 2000.
W.J. Hutmacher,
Captain, U.S. Coast Guard, Captain of the Port, Western Alaska.

[FR Doc. 00-14843 Filed 6-8-00; 3:25 pm]

BILLING CODE 4910-15-P